DEPARTMENT OF ENERGY

High Energy Physics Advisory Panel

AGENCY: Office of Science, Department of Energy.

ACTION: Notice of open meeting.

SUMMARY: This notice announces an open virtual meeting of the High Energy Physics Advisory Panel (HEPAP). The Federal Advisory Committee Act requires that public notice of these meetings be announced in the Federal Register.

DATES: Thursday, November 2, 2023, 12:00 p.m. to 2:30 p.m. (eastern time).

ADDRESSES: This meeting is open to the public. This meeting will be held virtually via Zoom. Information to participate can be found on the website closer to the meeting date at https://science.osti.gov/hep/hepap/meetings/.

FOR FURTHER INFORMATION CONTACT: John Kogut, Designated Federal Officer (DFO); High Energy Physics Advisory Panel (HEPAP); U.S. Department of Energy; Office of Science; SC-35/Germantown Building, 1000 Independence Avenue SW, Washington, DC 20585; Telephone: (301) 903-1298; Email: John.Kogut@science.doe.gov.

SUPPLEMENTARY INFORMATION:

Purpose of Meeting: To discuss the International Benchmarking report. HEPAP will vote on its acceptance.

Tentative Agenda

• Introductions

• Presentation of the International Benchmarking Report—Patricia McBride

• Discussion of the International Benchmarking Report

• Vote by HEPAP members on acceptance of the report

• General, Open Discussion

Public Participation: The meeting is open to the public. A webcast of this meeting will be available. Please check the website below for updates and information on how to view the meeting. If you would like to file a written statement with the Committee, you may do so either before or after the meeting. If you would like to make oral statements regarding any of these items on the agenda, you should contact John Kogut, (301) 903-1298 or by email at: John.Kogut@science.doe.gov. You must make your request for an oral statement at least five business days before the meeting. Reasonable provision will be made to include the scheduled oral statements on the agenda. The Chairperson of the Panel will conduct the meeting to facilitate the orderly conduct of business. Public comment will follow the 10-minute rule.

Minutes: The minutes of the meeting will be available on the High Energy Physics Advisory Panel website: https://science.osti.gov/hep/hepap/meetings/.

Signed in Washington, DC, on September 19, 2023.
LaTanya Butler,
Deputy Committee Management Officer.

[FR Doc. 2023-20671 Filed 9-22-23; 8:45 am]

BILLING CODE 6450-01-P